DEPARTMENT OF HOMELAND SECURITY

U.S. Customs and Border Protection

Accreditation of Altol Chemical and Environmental Laboratory, Inc. (Ponce, PR), as a Commercial Laboratory

AGENCY: U.S. Customs and Border Protection, Department of Homeland Security.

ACTION: Notice of accreditation of Altol Chemical and Environmental Laboratory, Inc., as a commercial laboratory.

SUMMARY: Notice is hereby given, pursuant to CBP regulations, that Altol Chemical and Environmental Laboratory, Inc. (Ponce, PR), has been accredited to test petroleum and petroleum products for customs purposes for the next three years as of September 27, 2018.

DATES: Effective—Altol Chemical and Environmental Laboratory, Inc., was accredited as a commercial laboratory as of September 27, 2018. The next triennial inspection date will be scheduled for September 2021.

FOR FURTHER INFORMATION CONTACT: Mr. Stephen Cassata, Laboratories and Scientific Services, U.S. Customs and Border Protection, 1300 Pennsylvania Avenue NW, Suite 1500N, Washington, DC 20229, tel. 202-344-1060.

SUPPLEMENTARY INFORMATION: Notice is hereby given pursuant to 19 CFR 151.12, that Altol Chemical and Environmental Laboratory, Inc., Sabanetas Industrial Park Building M-1380, Ponce, PR 00715, has been accredited to test petroleum and petroleum products for customs purposes, in accordance with the provisions of 19 CFR 151.12. Altol Chemical and Environmental Laboratory, Inc., is accredited for the following laboratory analysis procedures and methods for petroleum and certain petroleum products set forth by the U.S. Customs and Border Protection Laboratory Methods (CBPL) and American Society for Testing and Materials (ASTM):

CBPL No. | ASTM method | Title
27-01 | D287 | Standard Test Method for API Gravity of Crude Petroleum and Petroleum Products (Hydrometer Method).
27-02 | D1298 | Standard Test Method for Density, Relative Density (Specific Gravity), or API Gravity of Crude Petroleum and Liquid Petroleum Products by Hydrometer Method.
27-11 | D445 | Standard Test Method for Kinematic Viscosity of Transparent and Opaque Liquids (and Calculation of Dynamic Viscosity).
27-13 | D4294 | Standard Test Method for Sulfur in Petroleum and Petroleum Products by Energy-Dispersive X-ray Fluorescence Spectrometry.
27-48 | D4052 | Standard Test Method for Density and Relative Density of Liquids by Digital Density Meter.
27-58 | D5191 | Standard Test Method For Vapor Pressure of Petroleum Products (Mini Method).

Anyone wishing to employ this entity to conduct laboratory analyses services should request and receive written assurances from the entity that it is accredited by the U.S. Customs and Border Protection to conduct the specific test requested. Alternatively, inquiries regarding the specific test this entity is accredited to perform may be directed to the U.S. Customs and Border Protection by calling (202) 344-1060. The inquiry may also be sent to cbp.labhq@dhs.gov. Please reference the website listed below for a complete listing of CBP approved gaugers and accredited laboratories: http://www.cbp.gov/about/labs-scientific/commercial-gaugers-and-laboratories.

Dated: February 13, 2019.
Patricia Hawes Coleman,
Acting Executive Director, Laboratories and Scientific Services Directorate.

[FR Doc. 2019-03126 Filed 2-21-19; 8:45 am]

BILLING CODE 9111-14-P